INTERNATIONAL TRADE COMMISSION

[USITC SE-01-028]

Sunshine Act Meeting

Agency Holding the Meeting: United States International Trade Commission.

Time and Date: August 10, 2001 at 11 a.m.

PLACE: Room 101, 500 E Street, SW., Washington, DC 20436, Telephone: (202) 205-2000.

STATUS: Open to the public.

Matters To Be Considered

1. Agenda for future meeting: none

2. Minutes

3. Ratification List

4. Inv. Nos. 731-TA-951-952 (Preliminary) (Blast Furnace Coke from China and Japan)—briefing and vote. (The Commission is currently scheduled to transmit its determination to the Secretary of Commerce on August 13, 2001; Commissioners' opinions are currently scheduled to be transmitted to the Secretary of Commerce on August 20, 2001.)

5. Outstanding action jackets: None.

In accordance with Commission policy, subject matter listed above, not disposed of at the scheduled meeting, may be carried over to the agenda of the following meeting.

Issued: July 26, 2001.
By order of the Commission.
Donna R. Koehnke,
Secretary.

[FR Doc. 01-19071 Filed 7-26-01; 2:51 pm]

BILLING CODE 7020-02-P